DEPARTMENT OF COMMERCE

National Oceanic and Atmospheric Administration

[I.D. 072005C]

Marine Mammals; File Nos. 782-1768 and 486-1790

AGENCY: National Marine Fisheries Service (NMFS), National Oceanic and Atmospheric Administration (NOAA), Commerce.

ACTION: Notice; issuance of permit amendment, receipt of application.

SUMMARY: Notice is hereby given of the following actions: (1) the National Marine Mammal Laboratory, Alaska Fisheries Science Center, Seattle, WA (NMML: File No. 782-1768), has been issued a major amendment to a permit for research on Steller sea lions (Eumetopias jubatus) in California and Oregon; and (2) Brent Stewart, Hubbs-Sea World Research Institute, 2595 Ingraham Street, San Diego, California 92109 (File No. 486-1790), has applied for a permit to conduct research on California sea lions (Zalophus californianus), northern elephant seals (Mirounga angustirostris), harbor seals (Phoca vitulina), and northern fur seals (Callorhinus ursinus) on the southern California Channel Islands and surrounding waters.

DATES: Written, telefaxed, or e-mail comments must be received on or before August 25, 2005.

ADDRESSES: The application and related documents are available for review upon written request or by appointment in the following office(s):

File Nos. 782-1768 and 486-1790: Permits, Conservation and Education Division, Office of Protected Resources, NMFS, 1315 East-West Highway, Room 13705, Silver Spring, MD 20910; phone (301)713-2289; fax (301)427-2521;

File No. 782-1768: Northwest Region, NMFS, 7600 Sand Point Way NE, BIN C15700, Bldg. 1, Seattle, WA 98115-0700; phone (206)526-6150; fax (206)526-6426; and

File Nos. 782-1768 and 486-1790: Southwest Region, NMFS, 501 West Ocean Blvd., Suite 4200, Long Beach, CA 90802-4213; phone (562)980-4001; fax (562)980-4018.

Written comments or requests for a public hearing on the application File No. 486-1790 should be mailed to the Chief, Permits, Conservation and Education Division, F/PR1, Office of Protected Resources, NMFS, 1315 East-West Highway, Room 13705, Silver Spring, MD 20910. Those individuals requesting a hearing should set forth the specific reasons why a hearing on this particular request would be appropriate.

Comments on the application File No. 486-1790 may also be submitted by facsimile at (301)427-2521, provided the facsimile is confirmed by hard copy submitted by mail and postmarked no later than the closing date of the comment period.

In addition, comments on the application File No. 486-1790 may be submitted by e-mail. The mailbox address for providing email comments is NMFS.Pr1Comments@noaa.gov. Include in the subject line of the e-mail comment the following document identifier: File No. 486-1790.

FOR FURTHER INFORMATION CONTACT: Tammy Adams or Ruth Johnson, (301)713-2289.

SUPPLEMENTARY INFORMATION: File No. 782-1768: On June 4, 2003, notice was published in the Federal Register (68 FR 33477) that a request for a scientific research permit to take Steller sea lions and other pinnipeds California and Oregon had been submitted by NMML (File No. 782-1702). The requested permit was issued on October 10, 2003 (68 FR 58663) under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226). However, this permit did not include the requested capture, sampling, and marking of Steller sea lions in California and Oregon. A decision on these activities was deferred pending completion of the appropriate analyses under the ESA and the National Environmental Policy Act of 1969 (NEPA: 42 U.S.C. 4321 et seq.).

In compliance with NEPA, an environmental assessment was prepared analyzing the effects of the proposed permitted activities. After a Finding of No Significant Impact, the determination was made that it was not necessary to prepare an environmental impact statement. Subsequent to that analysis, a decision was made by the applicant and the NMFS to include the activities on Steller sea lions in California and Oregon proposed for File No. 782-1702 in a permit recently issued to NMML for range-wide studies of Steller sea lions, Permit No. 782-1768-00. Permit No. 782-1768-00 was issued on May 31, 2005 (70 FR 35065). The amendment to Permit No. 782-1768-00 now incorporates capture, blood and tissue sampling, hot-branding, flipper tagging, and attachment of scientific instruments to up to 12 Steller sea lions per year in California and Oregon to determine predation rates of individual sea lions on endangered salmonids, to perform disease screening and genetic analyses, and to document movements and migration rates of individuals.

Issuance of this amendment to Permit No. 782-1768-00, as required by the ESA, was based on a finding that such permit: (1) was applied for in good faith; (2) will not operate to the disadvantage of such endangered species; and (3) is consistent with the purposes and policies set forth in section 2 of the ESA.

File No. 486-1790: The subject permit is requested under the authority of the Marine Mammal Protection Act of 1972, as amended (MMPA; 16 U.S.C. 1361 et seq.) and the Regulations Governing the Taking and Importing of Marine Mammals (50 CFR part 216).

The applicant, Dr. Stewart, proposes to capture individuals of any age of the above mentioned pinniped species for continuation of studies begun in 1978 on the demography, physiological ecology, foraging ecology, and behavior of pinnipeds in California. Marine mammals would be captured by a variety of techniques; physically or chemically immobilized; have blood, skin, blubber, muscle, urine, feces, and various skin and mucousal swabs collected; receive flipper tags; have radio transmitters attached; receive exams of musculoskeletal and cardiovascular systems, ears, nares, oral cavity, and eyes. Dr. Stewart requests allowance for mortality of up to two animals of each species per year incidental to the research.

Concurrent with the publication of this notice in the Federal Register, NMFS is forwarding copies of the application from Dr. Stewart, File No. 486-1790, to the Marine Mammal Commission and its Committee of Scientific Advisors.

Dated: July 20, 2005.
Stephen L. Leathery,
Chief, Permits, Conservation and Education Division, Office of Protected Resources, National Marine Fisheries Service.

[FR Doc. 05-14724 Filed 7-25-05; 8:45 am]

BILLING CODE 3510-22-S